DEPARTMENT OF TRANSPORTATION

Federal Transit Administration

FTA Fiscal Year 2003 Apportionments, Allocations and Program Information; Notice of Supplemental Information, Changes, and Corrections

AGENCY: Federal Transit Administration (FTA), DOT.

ACTION: Notice; supplemental information, changes, and corrections.

SUPPLEMENTARY INFORMATION: The “Emergency Wartime Supplemental Appropriations Act, 2003” (Pub. L. 108-11) was signed by President Bush on April 16, 2003. The Act contains four general provisions that affect the Federal Transit Administration (FTA) Fiscal Year (FY) 2003 appropriations and programs. This notice identifies these provisions and also notes corrections to the FTA Notice entitled “FTA Fiscal Year 2003 Apportionments, Allocations and Program Information; Notice,” published in the Federal Register on March 12, 2003.

FOR FURTHER INFORMATION CONTACT: The appropriate FTA Regional Administrator or Mary Martha Churchman, Director, Office of Resource Management and State Programs, (202) 366-2053.

I. FTA FY 2003 Job Access and Reverse Commute Program Allocations

In the Federal Register Notice of FTA Fiscal Year 2003 Apportionments, Allocations and Program Information, published March 12, 2003, FTA noted that project selections for the Job Access and Reverse Commute program would be published separately.

Of the $150,000,000 made available for the Job Access and Reverse Commute (JARC) program by Public Law 108-7, the Department of Transportation (DOT) and Related Agencies Appropriations Act for Fiscal Year 2003, (FY 2003 DOT Appropriations Act) Congress directed that $45,000,000 be used for new fixed guideway systems under FTA's Capital Investment Grants program, leaving $105,000,000 for the JARC program. Section 601 of Title VI of the Consolidated Appropriations Resolution, 2003, requires an across-the-board .65 percent reduction proportionately applied to the discretionary budget authority and obligation limitation, and to each program, project and activity. When the .65 percent is taken from $105,000,000, a total of $104,317,500 remains available for JARC projects. The FY 2003 DOT Appropriations Act also permitted FTA to make up to $300,000 available for technical assistance and support and performance reviews of the JARC program. FTA reduced this amount by .65 percent and reserved $298,050 for program evaluation. Of the total $104,317,500 FY 2003 JARC funding, $104,019,450 remains available for allocation to projects. Congress designated projects totaling $104,999,000 in the Conference report accompanying the FY 2003 DOT Appropriations Act.

Section 2706(a) of Title II, Chapter 7 of Public Law 108-11, the Emergency Wartime Supplemental Appropriations Act, 2003, states, “projects and activities on pages 1303 through 1307 (of the Joint Explanatory Statement of the Committee of Conference for Public Law 108-7) shall be awarded those grants upon receipt of an application.” To apply for JARC funds, all applicants must submit an application through FTA's electronic grant-making system, TEAM, for projects that meet JARC program requirements as set forth in Part II of the solicitation notice for fiscal years 2002 and 2003, published in the Federal Register on April 8, 2002. Applicants should contact the appropriate regional offices for assistance with project development and grant application procedures. A list of all FTA regional offices is included at Appendix B of the April 8 Federal Register notice. This notice can be found at: [http://www.fta.dot.gov/library/legal/federalregister/2002/fr4802a.pdf.]

The table below provides the amount available for each project after subtraction of the funds for technical assistance and performance review and the across-the-board .65 percent reduction proportionately applied to all JARC projects.

Federal Transit Administration
[FY 2003 job access and reverse commute program allocations]
State | Project and description | Allocation
AK | Alaska Mobility Coalition | $495,335
AK | Kenai Peninsula Transit Planning | 495,335
AK | MASCOT Matanuska-Susitna Valley | 198,134
AL | Jefferson County | 2,972,013
AZ | AJO to Phoenix Rural Express Bus Service | 198,134
AZ | Maricopa County Worklinks Project | 247,668
AZ | Southwest Transit Assessment & Review Team Bus Route 131 | 297,201
AZ | Valley Metro (RPTA), City of Phoenix | 1,089,738
CA | AC Transit—CalWORKS | 1,981,342
CA | County of Santa Clara Guaranteed Ride Home Program | 495,335
CA | East Palo Alto Shuttle Service | 693,470
CA | LA County UTRANS | 495,335
CA | Los Angeles County; MTA Ride Share Program | 866,837
CA | Low-Income LIFT Program SF MTC | 990,671
CA | SACOG Sacramento Region | 743,003
CA | Sacramento Area | 1,486,006
CA | Southern California Regional Rail Authority, Metrolink Double Tracking | 990,671
CO | Colorado Statewide—Colorado Association of Transit Agencies (CASA) | 792,537
CT | Connecticut Statewide | 3,467,348
DC | Georgetown Metro Connection—Washington, DC | 1,089,738
DC | WMATA (DC, Maryland, and Virginia) | 2,105,176
DE | Delaware Welfare to Work Initiative | 743,003
FL | HART Access to Jobs Program | 693,470
FL | Jacksonville Trans. Authority Choice Ride Program | 1,609,840
FL | Key West | 990,671
FL | LYNX Central Florida Regional | 198,134
GA | Chatham | 433,914
GA | Macon—Bibb County Reverse Commute Program | 767,770
IA | Iowa Statewide | 990,671
IL | DuPage County Coordinated Paratransit Program | 495,335
IL | Illinois Ways to Work | 495,335
IL | Rock Island County Mass Transit District (MetroLink) | 178,321
IL | Ways-to-Work—IL—MO | 990,671
IN | Fort Wayne's Hanna Creighton Transit Center | 743,003
IN | IndyGo Service | 990,671
KS | KW Paratransit Vehicle | 29,720
KS | Mid America Regional Council (MARC) | 495,335
KS | Wyandotte County | 1,139,271
LA | Lafayette Ways to Work Program | 99,067
MA | Brockton Area Transit Authority | 222,901
MA | Community Transportation Association of America | 990,671
MA | Northern Tier Dial-A-Ride | 396,268
MA | Transportation Services of Northern Berkshire, Inc. | 396,268
MD | Maryland Statewide (Montgomery County, $600,000) | 4,953,354
MI | Flint Mass Transportation Authority | 1,040,204
MI | Grands Rapids/Kent County Job Access Plan | 929,249
MN | Minneapolis/St. Paul, Met Council | 990,671
MO | Metrolink Corridor Access to Jobs | 2,972,013
MO | Metropolitan Kansas City Job Access Partnership | 990,671
MO | Missouri Statewide | 1,386,939
MO | Ways to Work Missouri | 222,901
NC | Community Transportation Association of America's Joblinks Employment Transportation Initiative | 990,671
NC | Wake County Coordinated Transportation System | 767,770
NH | Lancaster—Littleton Transit Project | 49,534
NJ | New Jersey Statewide | 4,953,354
NY | Broome County Transit—Binghamton, NY | 247,668
NY | Capital District Transportation Authority Albany | 272,434
NY | Central NY Regional Transportation Authority | 495,335
NY | Chautauqua Area Rural Transportation System | 49,534
NY | Chemung County transit | 74,300
NY | Columbia County | 99,067
NY | Franklin County Expansion of Hour Service | 74,300
NY | Hornell Trans. Alternatives for NY | 49,534
NY | Ithaca Service | 74,300
NY | MTA—Long Island Bus | 247,668
NY | New York State DOT | 495,335
NY | Orange County | 99,067
NY | Rochester-Genesee Regional Transportation Authority (RGRTA) | 594,403
NY | Tompkins Consolidated Area Transit, Tompkins County | 297,201
OH | Central Ohio Transit Authority (COTA)—Mobility Management | 594,403
OH | Greater Cleveland Regional Transit Authority | 495,335
OH | Northwest Ohio Commuter LINK Toledo | 371,502
OH | STEP-UP Job Access Project Dayton | 123,834
OK | Oklahoma Transit Association | 4,953,354
OR | Jackson-Josephine County | 198,134
OR | Oregon Ways to Work Loan Program | 247,668
OR | Portland Metropolitan Region | 2,129,942
OR | Salem Area Transit | 495,335
PA | Port Authority of Allegheny County Access to Jobs | 3,962,683
PA | SEPTA | 5,518,041
RI | Rhode Island Deployment of Flexible Services | 743,003
RI | Rhode Island Public Transit | 1,981,342
TN | Chattanooga | 495,335
TN | Knoxville | 743,003
TN | State of Tennessee | 1,486,006
TX | Abilene Citylink Program | 99,067
TX | Austin Capital Metros Access | 2,476,677
TX | Citibus, Lubbock | 227,854
TX | Corpus Christi | 1,213,572
TX | East Texas Just Transportation Alliance (ETJTA): Tyler Transit | 198,134
TX | El Paso | 247,668
TX | Galveston | 594,403
TX | San Antonio Access to Jobs Program | 1,077,850
VA | City of Charlottesville | 371,502
VA | Fairfax County, Short-Term Transit Improvements | 1,585,073
VA | Virginia Regional Transportation Association, Route 7 Service/Dulles Corridor | 198,134
VA | Community Transportation Association of America | 148,601
WA | WA WorkFirst Initiative | 4,705,687
WA | Ways to Work—EPIC Yakima | 495,335
WI | Wisconsin Statewide | 5,151,488
WV | West Virginia Statewide | 990,671
| Total Allocations | 104,019,450

II. FY 2003 Operating Assistance for Eligible 1990 Census Nonurbanized Areas

Section 2707 of Title II, Chapter 7 of Public Law 108-11 states: “Notwithstanding any other provision of law, funds made available under the heading “Federal Transit Administration Formula Grants” for fiscal year 2003 shall be available to finance the operating cost of equipment and facilities for use in public transportation in an urbanized area with a population of at least 200,000 as determined under the 2000 Federal decennial census of population for a portion of the area that was not designated as an urbanized area as determined under the 1990 Federal decennial census of population if that portion of the area received assistance under section 5311 of title 49, United States Code.”

A grant applicant for an area eligible to receive operating assistance under this provision that wants to make use of this provision must so state in the grant application. The application must identify the previously nonurbanized portion of the urbanized area that qualifies (i.e., that portion of the area that was not designated as urbanized under the 1990 census and received assistance under section 5311). Please contact the appropriate FTA regional office for additional information or guidance if you intend to make use of this provision.

III. Section 336 of FY 2003 DOT Appropriations Act Amended

Section 336 of FY 2003 DOT Appropriations Act directed that the city of Norman, OK shall be considered part of the Oklahoma City Transportation Management Area. Section 2701 of Title II, Chapter 7 of Public Law 108-11 amends Section 336 of the FY 2003 DOT Appropriations Act by striking “Transportation Management” and inserting “Urbanized” in lieu thereof. In the table on page 11911 of the FTA Fiscal Year 2003 Apportionments, Allocations and Program Information, Notice, published March 12, 2003, the reference to Oklahoma City, OK and Norman, Oklahoma are no longer appropriate and should be deleted.

IV. Section 626 of Title VI, Public Law 108-7 Amended

Section 626 of Title VI, Public Law 108-7 provides that “Any amounts previously appropriated for the Port of Anchorage for an intermodal marine facility and access thereto shall be transferred to and administered by the Administrator for Maritime Administration * * *.” Section 2709 of Title II, Chapter 7 of Public Law 108-11 amends Section 626 by striking ‘previously.’ Accordingly, FY 2002 and FY 2003 Section 5309 Bus and Bus-Related allocations for the Port of Anchorage Intermodal Facility project will be transferred to the Maritime Administration.

V. Corrections

In the table on page 11911 of the FTA Fiscal Year 2003 Apportionments, Allocations and Program Information, Notice, published March 12, 2003, the following corrections are noted to information in the “Designated TMA” column: “Philadelphia, PA-NJ-DENJ-MD” should read “Philadelphia, PA-NJ-DE-MD”; and “Washington, DCNJ-VANJ-MD” should read “Washington, DC-VA-MD”.

Issued on: May 2, 2003.
Jennifer L. Dorn,
Administrator.

[FR Doc. 03-11778 Filed 5-12-03; 8:45 am]

BILLING CODE 4910-57-U